FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 1590F.

Name: Fernando L. Cancetty dba Sunrise Forwarding Company.

Address: 540 Cressida Circle, Spring Hill, FL 34609.

Date Revoked: September 23, 2011.

Reason: Voluntarily surrendered license.

License Number: 2952F.

Name: New York Customs Brokers Inc.

Address: 148-02 Guy R. Brewer Blvd., Jamaica, NY 11434.

Date Revoked: September 2, 2011.

Reason: Failed to maintain a valid bond.

License Number: 3512F.

Name: Urie Transportation Management, Incorporated dba U.S. Northwest Express dba USNW Express.

Address: 5150 Village Park Drive SE., Suite 100, Bellevue, WA 98006.

Date Revoked: September 26, 2011.

Reason: Failed to maintain a valid bond.

License Number: 004299N.

Name: CNC Shipping International Inc.

Address: 7774 NW 71st Street, Miami, FL 33166.

Date Revoked: September 3, 2011.

Reason: Failed to maintain a valid bond.

License Number: 8016NF.

Name: Guardship America, Incorporated.

Address: 6679 Santa Barbara Road, Suite J, Elkridge, MD 21075.

Date Revoked: September 21, 2011.

Reason: Failed to maintain valid bonds.

License Number: 8814NF.

Name: Baltrans Ocean, Inc.

Address: 150-15 183rd Street, Springfield Gardens, NY 11413.

Date Revoked: October 6, 2011.

Reason: Voluntarily surrendered license.

License Number: 12248F.

Name: World Air and Ocean Services, Inc.

Address: 461 Littlefield Avenue, So. San Francisco, CA 94080.

Date Revoked: September 2, 2011.

Reason: Failed to maintain a valid bond.

License Number: 012659N.

Name: Centre Shipping International, Inc.

Address: 11011 Richmond Avenue, Suite 675, Houston, TX 77042.

Date Revoked: September 2, 2011.

Reason: Failed to maintain a valid bond.

License Number: 012787N.

Name: Newport Cargo Consolidated, Inc. dba Touchdown Freight Co.

Address: 12833 Simms Avenue, Hawthorne, CA 90250.

Date Revoked: October 3, 2011.

Reason: Failed to maintain a valid bond.

License Number: 017582F.

Name: Trans Global Logistics, Inc.

Address: 100 Eagle Ridge Road, Midland City, AL 36350.

Date Revoked: October 7, 2011.

Reason: Failed to maintain a valid bond.

License Number: 018715N.

Name: Sunwoo International, Inc. dba Gen-X International Freight Company.

Address: 1835 South Nordic Road, Mt. Prospect, IL 60056.

Date Revoked: September 30, 2011.

Reason: Voluntarily surrendered license.

License Number: 019318N.

Name: Marine International, Inc.

Address: 1417 Ashford Lane, Aurora, IL 60502.

Date Revoked: September 1, 2011.

Reason: Voluntarily surrendered license.

License Number: 019453N.

Name: La Onion Shipping Co., Inc.

Address: 1680 Jerome Avenue, Bronx, NY 10453.

Date Revoked: October 2, 2011.

Reason: Failed to maintain a valid bond.

License Number: 019825NF.

Name: Anchor Global (USA), Inc.

Address: 11133 Oakton Road, Oakton, VA 22124.

Date Revoked: September 23, 2011.

Reason: Failed to maintain valid bonds.

License Number: 020102NF.

Name: Cargo Shipping Expedition International Inc.

Address: 131 Industrial Avenue, Hasbrouck Heights, NJ 07604.

Date Revoked: September 2, 2011.

Reason: Failed to maintain valid bonds.

License Number: 020298NF.

Name: A A Shipping Incorporated.

Address: 11526 Harwin Drive, Houston, TX 77072.

Date Revoked: September 27, 2011.

Reason: Failed to maintain valid bonds.

License Number: 020328N.

Name: AJ Cargo Express Inc.

Address: 3340 Fort Independence Street, Suite 44, Bronx, NY 10463.

Date Revoked: October 3, 2011.

Reason: Failed to maintain a valid bond.

License Number: 021246N.

Name: Around the World Shipping, Inc.

Address: 13324 Estrella Avenue, Gardena, CA 90248.

Date Revoked: October 2, 2011.

Reason: Failed to maintain a valid bond.

License Number: 021325N.

Name: Yaseen Trading and Investment, Inc. dba Yaseen Shipping.

Address: 2547 South Main Street, Santa Ana, CA 92707.

Date Revoked: September 28, 2011.

Reason: Failed to maintain a valid bond.

License Number: 021389NF.

Name: Global Market Express Corporation.

Address: 13500 SW., 88th Street, Suite 285-D, Miami, FL 33186.

Date Revoked: September 30, 2011.

Reason: Failed to maintain valid bonds.

License Number: 022392N.

Name: AGXH Trucking LLC dba Unix Global Logistics.

Address: 4137 Banner Drive, Houston, TX 77013.

Date Revoked: September 26, 2011.

Reason: Failed to maintain a valid bond.

License Number: 022630N.

Name: Quantum Group LLC.

Address: 346 Bennetts Farm Road, Ridgefield, CT 06877.

Date Revoked: September 2, 2011.

Reason: Failed to maintain a valid bond.

Sandra L. Kusumoto,
Director, Bureau of Certification and Licensing.

[FR Doc. 2011-28030 Filed 10-28-11; 8:45 am]

BILLING CODE 6730-01-P